DEPARTMENT OF COMMERCE

Bureau of the Census

Census Advisory Committee of Professional Associations

AGENCY: Bureau of the Census, Commerce.

ACTION: Notice of public meeting.

SUMMARY: Pursuant to the Federal Advisory Committee Act (P.L. 92-463 as amended by Pub. L. 94-409, Pub. L. 96-523, and Pub. L. 97-375), we are giving notice of a meeting of the Census Advisory Committee of Professional Associations. The Committee is composed of 36 members appointed by the Presidents of the American Economic Association, the American Statistical Association, the Population Association of America, and the Chairperson of the Board of the American Marketing Association. The Committee advises the Director, Bureau of the Census (Census Bureau), on the full range of Census Bureau programs and activities in relation to their areas of expertise.

DATES: The meeting will convene on October 19-20, 2000. On October 19, the meeting will begin at 9 a.m. and adjourn at 4:15 p.m. On October 20, the meeting will begin at 9 a.m. and adjourn at 12:30 p.m.

ADDRESSES: The meeting will take place at the Sheraton Crystal City Hotel, 1800 Jefferson Davis Highway, Arlington, VA, 22202.

FOR FURTHER INFORMATION CONTACT: Census Bureau Committee Liaison Officer, Ms. Maxine Anderson-Brown, Room 1647, Federal Building 3, Washington, DC 20233. Her phone number is 301-457-2308, TDD 301-457-2540.

SUPPLEMENTARY INFORMATION: The agenda for the meeting on October 19, which will begin at 9 a.m. and adjourn at 4:15 p.m., is as follows:

• Introductory Remarks by the Director, Census Bureau, and the Principal Associate Director for Programs, Census Bureau

• Census Bureau Responses to Committee Recommendations

• 1998 Annual Capital Expenditures Survey

• Developing Customer Relationship Management for Economic Programs

• Census 2000 Public-Use Microdata Sample

• 1997 Surveys of Minority-owned and Women-owned Business Enterprises

• Census 2000 Geographic Products

• Recent Developments in Administrative Records Research Program

• Making the Final Decision with Respect to the Census 2000 Accuracy and Coverage Evaluation

• Redesign of Governments Division Programs

• Compensation Measures: Issues and Options

• Changes in Public Opinion During the Census

• Economic Programs: Hot Topics

The agenda for the meeting on October 20, which will begin at 9 a.m. and adjourn at 12:30 p.m., is as follows:

• Chief Economist Update

• Weighting Estimates from the American Community Survey to Population Totals

• Developing and Promoting Next Generation Information Products for Internet sites at <www.census.gov> and <www.fedstats.gov>

• Developing Recommendations and Special Interest Activities

• Closing Session

The meeting is open to the public and a brief period will be set aside during the closing session for public comments and questions. Those persons with extensive questions or statements must submit them in writing to the Census Bureau Committee Liaison Officer. Individuals wishing additional information or minutes regarding this meeting may contact the Liaison Officer as well. Her address and phone number are identified above.

This meeting is physically accessible to people with disabilities. Requests for sign language interpretation or other auxiliary aids should also be directed to the Census Bureau Committee Liaison Officer.

Dated: September 15, 2000.
Kenneth Prewitt,
Director, Bureau of the Census.

[FR Doc. 00-24283 Filed 9-20-00; 8:45 am]

BILLING CODE 3510-07-P